FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Federal Reserve Bank indicated or the offices of the Board of Governors, Ann E. Misback, Secretary of the Board, 20th Street and Constitution Avenue NW, Washington, DC 20551-0001, not later than November 27, 2019.

A. Federal Reserve Bank of Kansas City (Dennis Denney, Assistant Vice President) 1 Memorial Drive, Kansas City, Missouri 64198-0001:

1. BF Bank Partners LP and Main Street Banking Partners LP, both of Oklahoma City, Oklahoma; as members acting in concert with the Rainbolt Family Control Group, to acquire voting shares of BancFirst Corporation and thereby indirectly acquire voting shares of BancFirst, both of Oklahoma City, Oklahoma, and Pegasus Bank, Dallas, Texas. The individuals who serve as the general partners of BF Bank Partners LP and Main Street Banking Partners LP, David E. Rainbolt and Leslie J. Rainbolt, respectively, both of Oklahoma City, Oklahoma, were previously approved under the Act and Regulation Y to acquire the voting shares that are the subject of this notice.

2. The Commerce Bank and Trust Holding Company Employee Stock Ownership Plan, David S. Frick as Plan Administrator, both of Topeka, Kansas; to acquire voting shares of Commerce Bank and Trust Holding Company and thereby indirectly acquire voting shares of CoreFirst Bank & Trust, both of Topeka, Kansas.

B. Federal Reserve Bank of St. Louis (David L. Hubbard, Senior Manager) P.O. Box 442, St. Louis, Missouri 63166-2034. Comments can also be sent electronically to Comments.applications@stls.frb.org:

1. Charles S. Penick, individually, and together with the Charles S. Penick Mary Michele Penick Revocable Trust, Charles S. Penick and Mary Michele Penick as co-trustees; the M. Michele Penick Irrevocable Trust, Mary Michele Penick, trustee; Mary Michele Penick; Mary Reese Fisher; and Ella Bleu Fisher, all of Morrilton, Arkansas; Edward M. Penick; George Penick; and Diane L. Tait, all of Little Rock, Arkansas; Megan Penick Voss; Beau Steven Voss; and Finlee Dru Voss, all of Solgohachia, Arkansas; and Mollie Penick Tanner, Rison, Arkansas; as members of a group acting in concert to retain voting shares of Petit Jean Bancshares, Inc., and thereby indirectly retain voting shares of Petit Jean State Bank, both of Morrilton, Arkansas.

C. Federal Reserve Bank of San Francisco (Gerald C. Tsai, Director, Applications and Enforcement) 101 Market Street, San Francisco, California 94105-1579:

1. Berkshire Hathaway, Inc., Wellfleet New York Insurance Company, Berkshire Hathaway Assurance Corporation, Berkshire Hathaway Homestate Insurance Company, Berkshire Hathaway International Insurance Ltd, Berkshire Hathaway Life Insurance Company of Nebraska, Berkshire Hathaway Specialty Insurance Company, BH Finance LLC, BHG Life Insurance Company, California Insurance Company, Central States Indemnity Company of Omaha, Columbia Insurance Company, Continental Indemnity Company, Cypress Insurance Company, Finial Reinsurance Company, First Berkshire Hathaway Life Insurance Company, National Fire & Marine Insurance Company, National Indemnity Company, National Liability & Fire Insurance Company, National Indemnity Company of Mid America, National Indemnity Company of the South, NRG America Holding Company, and Oak River Insurance Company, all of Omaha, Nebraska; Am GUARD Insurance Company and NorGUARD Insurance Company, both of Wilkes-Barre, Pennsylvania; Government Employees Insurance Company, GEICO Indemnity Company, and GEICO Marine Insurance Company, all of Chevy Chase, Maryland; General Re Life Corporation, General Reinsurance Corporation, General Star Indemnity Company, General Star National Insurance Company, and Genesis Insurance Company, all of Stamford, Connecticut; Medical Protective Company and Princeton Insurance Company, both of Ft. Wayne, Indiana; Mt. Vernon Fire Insurance Company and United States Liability Insurance Company, both of Wayne, Pennsylvania; and Old United Casualty Company, Merriam, Kansas; to retain over 10 percent, and to acquire up to 24.99 percent, of the voting shares of Bank of America Corporation, Charlotte, North Carolina, and thereby indirectly retain and acquire voting shares of Bank of America, National Association, Charlotte, North Carolina and Bank of America California, National Association, San Francisco, California.

Board of Governors of the Federal Reserve System, November 8, 2019.
Michele Taylor Fennell,
Assistant Secretary of the Board.

[FR Doc. 2019-24735 Filed 11-13-19; 8:45 am]

BILLING CODE P